Federal Energy Regulatory Commission

[Docket No. ER03-5-001, et al.]

Midwest Independent Transmission System Operator, Inc., et al.; Electric Rate and Corporate Filings

March 11, 2003.

The following filings have been made with the Commission. The filings are listed in ascending order within each docket classification.

1. Midwest Independent Transmission System Operator, Inc.

[Docket No. ER03-5-001]

Take notice that on March 7, 2003, Midwest Independent Transmission System Operator, Inc. (Midwest ISO) pursuant to Section 205 of the Federal Power Act and Section 35.13 of the Commission's regulations, 18 CFR 35.13, submitted for filing a revised Interconnection and Operating Agreement among GM Transmission, LLC, the Midwest ISO and Northern States Power Company d/b/a Xcel Energy.

Midwest ISO states that a copy of this filing was sent to the GM Transmission, LLC and Northern States Power Company d/b/a Xcel Energy.

Comment Date: March 28, 2003.

2. TRANSLink Development Company, LLC

[Docket No. ER03-216-002]

Take notice that on March 3, 2003, the Midwest Independent Transmission System Operator, Inc. (Midwest ISO) and TRANSLink Development Company, LLC (TRANSLink Development) tendered for filing with the Federal Energy Regulatory Commission (Commission) revisions to certain provisions of the Appendix I Agreement (Agreement) between the Midwest ISO and TRANSLink Development, pursuant to the Commission's January 15, 2003 Order in docket number ER03-216-000.

The Midwest ISO and TRANSLink have requested an effective date of March 4, 2003.

The Midwest ISO states that it has served copies of its filing on all affected customers. In addition, the Midwest ISO has electronically served a copy of this filing, without attachments, upon all Midwest ISO Members, Member representatives of Transmission Owners and Non-Transmission Owners, the Midwest ISO Advisory Committee participants, Policy Subcommittee participants, as well as all state commissions within the region. In addition, the filing has been electronically posted on the Midwest ISO's Web site at www.midwestiso.org under the heading “Filings to FERC” for other interested parties in this matter. The Midwest ISO will provide hard copies to any interested parties upon request.

Comment Date: March 24, 2003.

3. Mesquite Power, LLC

[Docket No. ER03-427-002]

Take notice that on March 6, 2003, Mesquite Power LLC (Mesquite) tendered for filing with the Federal Energy Regulatory Commission (Commission) an amendment to its petition for waivers and blanket approvals under various regulations of the Commission and for an order accepting its FERC Electric Tariff No. 1, originally filed on January 17, 2003 and amended on February 28, 2003.

Comment Date: March 21, 2003.

4. New York Independent System Operator, Inc.

[Docket No. ER03-552-001]

Take notice that on March 6, 2003, the New York Independent System Operator, Inc. (NYISO), submitted corrected tariff sheets to the NYISO's Open Access Transmission Tariff (OATT) originally filed on February 21, 2003. The NYISO has requested that the Commission make the filing effective 90 days after the Commission issues a final order accepting it.

The NYISO states that copies of the filing were served on all parties that have executed Service Agreements under the NYISO's OATT or Services Tariff, the New York State Public Service Commission and to the electric utility regulatory agencies in New Jersey and Pennsylvania.

Comment Date: March 27, 2003.

5. Minnesota Power

[Docket No. ER03-475-001]

Take notice that on March 6, 2003, Minnesota Power tendered for filing with the Federal Energy Regulatory Commission (Commission) Substitute First Revised Sheet Nos. 71, 77, 78 and 79 superseding Original Sheet Nos. 71, 77, 78 and 79 and Original Sheet No. 83 of the Second Revised Rate Schedule FERC No. 136, designated as required by Commission Order No. 614, for wholesale electric service to the City of Hibbing, Minnesota Public Utilities Commission (Hibbing). Minnesota Power requests an effective date of January 1, 2003.

Comment Date: March 27, 2003.

6. Southern Company Services, Inc.

[Docket No. ER03-596-000]

Take notice that on March 6, 2003, Southern Company Services, Inc., acting on behalf of Alabama Power Company (APC), filed with the Federal Energy Regulatory Commission (Commission), a Notice of Cancellation of the Interconnection Agreement between Tenaska Alabama III Partners, L.P. and APC (Service Agreement No. 338 under Southern Companies' Open Access Transmission Tariff, Fourth Revised Volume No. 5).

APC is requesting an effective date of October 1, 2002.

Comment Date: March 27, 2003.

7. Brookhaven Energy Limited Partnership

[Docket No. ER03-597-000]

Take notice that on March 7, 2003, Brookhaven Energy Limited Partnership (Brookhaven Energy), filed with the Federal Energy Regulatory Commission (Commission) an application for approval of its initial tariff (FERC Electric Tariff Original Volume No. 1), and for blanket approval for market-based rates pursuant to part 35 of the Commission's regulations.

Brookhaven Energy states that it is a limited partnership formed under the laws of Delaware and intends to construct, own and operate a 540-MW power generation facility to be located in Brookhaven, New York (Facility). The Facility is expected to begin commercial operation by July 2005.

Comment Date: March 28, 2003.

8. Entergy Services, Inc.

[Docket No. ER03-599-000]

Take notice that on March 5, 2003, Entergy Services, Inc. (Entergy Services) submitted for filing on behalf of Entergy Arkansas, Inc. (EAI) a 2003 Wholesale Formula Rate Update (Update) in accordance with: (1) The Power Coordination, Interchange and Transmission Service Agreements (PCITA) between EAI and the Cities of Conway, West Memphis and Osceola Arkansas (Arkansas Cities); the cities of Campbell and Thayer, Missouri (Missouri Cities); and the Arkansas Electric Cooperative Corporation (AECC); (2) the Transmission Service Agreement (TSA) between EAI and the City of Hope, Arkansas (Hope); (3) the TSA between EAI and the Louisiana Energy & Power Authority (LEPA); (4) the Wholesale Power Service Agreement (WPSA) between EAI and the City of Prescott, Arkansas (Prescott); and (5) the WPSA between EAI and the Farmers Electric Cooperative Corporation (Farmers). In addition, the distribution rate charged to the City of North Little Rock pursuant to the Network Integration Transmission Service Agreement is also redetermined by this filing. Entergy Services states that the Update redetermines the formula rate charges and the Transmission Loss Factor in accordance with: (1) The above agreements; (2) the 1994 Joint Stipulation between EAI and AECC accepted by the Commission in Docket No. ER95-49-000, as revised by the 24th Amendment to the AECC PCITA on March 26, 1996 in Docket No. ER96-1116; (3) the formula rate revisions accepted by the Commission on February 21, 1995 in Docket No. ER95-393-000, as applicable to the Arkansas Cities, the Missouri Cities, Hope and North Little Rock; (4) the formula rate revisions applicable to LEPA accepted by the Commission on January 10, 1997 in Docket No. ER97-257-000; and (5) the Settlement Agreement accepted by the Commission on July 2, 1999 in Docket No. ER98-2028-000 (the 1998 Formula Rate Update proceeding).

Comment Date: March 26, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-6017 Filed 3-18-03; 8:45 am]

BILLING CODE 6717-01-P